DEPARTMENT OF COMMERCE

Census Bureau

Proposed Information Collection; Comment Request; Monthly Retail Surveys

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 13, 2017.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Rebecca DeNale, U.S. Census Bureau, EID HQ-8K181, 4600 Silver Hill Road, Washington, DC 20233-6500, (301) 763-3113 (or via the Internet at Rebecca.DeNale@census.gov).

SUPPLEMENTARY INFORMATION

I. Abstract

The Census Bureau plans to request a revision of the current Office of Management and Budget clearance for the surveys known as the Monthly Retail Trade Survey (MRTS) and the Advance Monthly Retail Trade Survey (MARTS). The MRTS and MARTS are related collections sharing the same initial sample frame and collect data that are published in conjunction with each other. These two surveys, currently cleared separately under control numbers 0607-0717 and 0607-0104, respectively, will therefore be combined under one control number and will be collectively called the Monthly Retail Surveys (MRS).

The Monthly Retail Trade Survey (MRTS) provides estimates of monthly retail sales, end-of-month merchandise inventories, and quarterly e-commerce sales for firms located in the United States and classified in the Retail Trade or Food Services sectors as defined by the North American Industry Classification System (NAICS).

Estimates produced from the MRTS are based on a probability sample of approximately 11,500 firms. The sample design consists of one fixed panel where all cases are requested to report sales, e-commerce sales, and/or inventories for the prior month. If reporting data for a period other than the calendar month, the survey asks for the period's length (4 or 5 weeks) and the date on which the period ended. The survey also asks for the number of establishments covered by the data provided and whether or not the sales data provided are estimates or more accurate “book” figures. The sample is drawn approximately every 5 years from the Business Register, which contains all Employer Identification Numbers (EINs) and listed establishment locations. The sample is updated quarterly to reflect employer business “births” and “deaths”; adding new employer businesses identified in the Business and Professional Classification Survey (SQ-CLASS) and deleting firms and EINs when it is determined they are no longer active. Estimates from the MRTS are released in three different reports each month. High level aggregate estimates for end of month inventories are first released as part of the Advance Economic Indicators Report approximately 27 days after the close of the reference month. The sales and inventories estimates from MRTS are released approximately 44 days after the close of the reference month as part of the Monthly Retail Trade report and the Manufacturing and Trade Inventories and Sales (MTIS) report, which are released on the same day. Additionally, once per quarter, data for quarterly e-commerce sales are released approximately 48 days after the close of the reference quarter as part of the Quarterly Retail E-Commerce Sales report.

Effective with the next MRTS sample, which begins collection in December of 2017, we will be removing the Leased Department question and all impacted forms, and will no longer provide monthly estimates for this data series moving forward. All historical series including these estimates will still be available to data users.

The Advance Monthly Retail Trade Survey (MARTS) provides an early indication of monthly sales for retail trade and food services firms located in the United States. It was developed in response to requests by government, business, and other users to provide an early indication of current retail trade activity in the United States. Retail sales are one of the primary measures of consumer demand for both durable and non-durable goods. The MARTS survey results are published approximately 14 days after the end of the reference month. MARTS provides a designated principal economic indicator and the earliest available monthly estimates of broad based retail trade activity. It also provides an estimate of monthly sales at food service establishments and drinking places. If the advance survey were not conducted, there would be a delay in the availability of these results as the results from the MRTS are not published until approximately 6 weeks after the end of the reference month.

The MARTS sample is a sub-sample of companies selected from the MRTS. The advance survey sample of about 4,900 companies are selected using a stratified design where the companies are selected by stratifying the companies in the larger MRTS sample by industry and size and selecting the desired number of cases within each size stratum using a systematic probability-proportional-to-size procedure where the size used is the MRTS sampling weight. Some 1,250 firms, because of their relatively large effect on the sales of certain industry groups, are selected with certainty. The MARTS sample is re-selected, generally at 2½ to 3 year intervals, to ensure it is representative of the target population and redistribute burden for small and medium size businesses.

Advance sales estimates for each kind of business are developed by applying a ratio of current-month to previous-month sales (derived from the advance retail and food service sample) to the preliminary estimate of sales for the previous month (from the larger monthly sample). Industry estimates are summed to derive total retail sales figures.

The MARTS survey requests sales and e-commerce sales for the month just ending. As on the MRTS survey, if firms report data for a period other than the calendar month, the survey asks for the period's length (4 or 5 weeks) and the date on which the period ended. Also similar to MRTS, the survey also asks for the number of establishments covered by the data provided and whether or not the sales data provided are estimates or more accurate “book” figures. At this time, there are no planned changes for MARTS.

The Bureau of Economic Analysis (BEA) uses the information collected on these surveys to prepare the National Income and Products Accounts, to benchmark the annual input-output tables and as critical inputs to the calculation of the Gross Domestic Product (GDP). Policymakers such as the Federal Reserve Board (FRB) need to have the timeliest estimates in order to anticipate economic trends and act accordingly. The Council of Economic Advisors (CEA) and other government agencies and businesses use the survey results to formulate and make decisions about economic policy.

II. Method of Collection

We will collect this information by mail, FAX, telephone follow-up, and internet.

III. Data

OMB Control Numbers: 0607-0104 and 0607-0717.

Form Numbers: SM-4412A-A, SM-4412A-E, SM-4412AE-A, SM-4412AE-E, SM-4412AS-A, SM-4412AS-E, SM-7212A-A, SM7212A-E, SM-2012I-A, SM-2012I-E, SM-4412B-A, SM4412B-E, SM-4412BE-A, SM-4412BE-E, SM4412BS-A, SM-4412BS-E, SM-4412S-A, SM-4412S-E, SM-4412SE-A, SM-4412SE-E, SM-4412SS-A, SM-4412SS-E, SM-7212S-A, SM-7212S-E, SM-4512B-A, SM-4512B-E, SM-4512BE-A, SM-4512BE-E, SM-4512BS-A, SM-4512BS-E, SM-4512S-A, SM-4512S-E, SM-4512SE-A, SM-4512SE-E, SM-4512SS-A, SM-4512SS-E.

Type of Review: Regular submission.

Affected Public: Retail and Food Services firms in the United States.

Estimated Number of Respondents: MRTS-10,305; MARTS-4,700.

Estimated Time per Response: MRTS-7 minutes; MARTS-5 minutes.

Estimated Total Annual Burden Hours: 19,327.

Estimated Total Annual Cost: $0.

Respondent's Obligation: Voluntary.

Legal Authority: Title 13, United States Code, Sections 131 and 182.

V. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
PRA Departmental Lead, Office of the Chief Information Officer.

[FR Doc. 2017-00525 Filed 1-11-17; 8:45 am]

BILLING CODE 3510-07-P